DEPARTMENT OF DEFENSE

Office of the Secretary of Defense

[DOD-2007-OS-0036]

Privacy Act of 1974; System of Records

AGENCY: National Reconnaissance Office.

ACTION: Notice to add a system of records.

SUMMARY: The National Reconnaissance Office proposes to add a system of records to its inventory of system of records notice systems subject to the Privacy Act of 1974, (5 U.S.C. 552a), as amended.

DATES: This proposed action will be effective without further notice on May 18, 2007 unless comments are received which result in a contrary determination.

ADDRESSES: Send comments to the FOIA/Privacy Official, National Reconnaissance Office, Information Access and Release, 14675 Lee Road, Chantilly, VA 20151-1715.

FOR FURTHER INFORMATION CONTACT: Contact the FOIA/Privacy Official at (703) 227-9128.

SUPPLEMENTARY INFORMATION: The National Reconnaissance Office systems of records notices subject to the Privacy Act of 1974, (5 U.S.C. 552a), as amended, have been published in the Federal Register and are available from the address above.

The proposed system report, as required by 5 U.S.C. 552a(r) of the Privacy Act of 1974, as amended, was submitted on April 6, 2007, to the House Committee on Oversight and Government Reform, the Senate Committee on Governmental Affairs, and the Office of Management and Budget (OMB) pursuant to paragraph 4c of Appendix I, ‘Federal Agency Responsibilities for Maintaining Records About Individuals’, to OMB Circular No. A-130, dated November 30, 2000.

Dated: April 11, 2007.
C.R. Choate,
Alternate OSD Federal Register Liaison Officer, Department of Defense.

QNRO-28

System name:

Communications Security (COMSEC) Accounting Records.

System location:

National Reconnaissance Office, Communications Directorate, 14675 Lee Road, Chantilly, VA 20151-1715.

Categories of individuals covered by the system:

Government civilians, military members, and contractors.

Categories of records in the system:

Individual's name, Social Security Number (SSN), and COMSEC assets accountability records such as effective and supersession dates of crypto key, key quantities and format (i.e., electronic, hardcopy, etc.), COMSEC account number, software application versions loaded on the asset, location of materials/equipment, and location/site of assets information (corporation/site name, address, and contact information).

Authority for maintenance of the system:

National Security Act of 1947, as amended, 50 U.S.C. 401 et seq.; National Security Telecommunication and Information Systems Security Instruction (NSTISSI) Number 4005; E.O. 10450, Security Requirements for Government Employees, as amended; and E.O. 9397 (SSN).

Purpose(s):

To support the NRO's Communications Security (COMSEC) mission. This system will be used as the accounting database to maintain and track NRO COMSEC assets and to identify those individuals authorized access to cryptographic materials/equipment, sites, and containers.

Routine uses of records maintained in the system, including categories of users and the purposes of such uses:

In addition to those disclosures generally permitted under 5 U.S.C. 552a(b) of the Privacy Act, these records or information contained therein may specifically be disclosed outside the NRO as a routine use pursuant to 5 U.S.C. 552a(b)(3) as follows:

The DoD ‘Blanket Routines Uses’ published at the beginning of the NRO compilation of systems of records notices apply to this system.

Policies and practices for storing, retrieving, accessing, retaining, and disposing of records in the system:

Storage:

Electronic storage media.

Retrievability:

Individual's name, Social Security Number (SSN), and/or COMSEC account number.

Safeguards:

Records are stored in a secure, gated facility, guard, badge, and password access protected. Access to and use of these records is limited to staff whose official duties require such access.

Retention and disposal:

Records relating to individuals access and authorization are destroyed 3 years after individual is debriefed. Keying material records are destroyed when 2 years old. COMSEC assets records are destroyed when removed from NRO accountability.

System manager(s) and address:

Director, Communications Directorate, National Reconnaissance Office, 14675 Lee Road, Chantilly, VA 20151-1715.

Notification procedure:

Individuals seeking to determine whether information about themselves is contained in this system of records should address written inquiries to the National Reconnaissance Office, Information Access and Release Center, 14675 Lee Road, Chantilly, VA 20151-1715.

Requests should contain individual's name and any aliases or nicknames, address, Social Security Number (SSN), current citizenship status, date and place of birth, and other information identifiable from the record.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Record access procedures:

Individuals seeking access to information about themselves contained in this system of records should address written inquiries to the National Reconnaissance Office, Information Access and Release Center, 14675 Lee Road, Chantilly, VA 20151-1715.

Requests should contain individual's name and any aliases or nicknames, address, Social Security Number (SSN), current citizenship status, date and place of birth, and other information identifiable from the record.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Contesting record procedures:

The NRO rules for accessing records, for contesting contents and appealing initial agency determinations are published in NRO Directive 110-3b and NRO Instruction 110-3-1; 32 CFR part 326; or may be obtained from the Privacy Act Coordinator, National Reconnaissance Office, 14675 Lee Road, Chantilly, VA 20151-1715.

Record source categories:

Individual, COMSEC Officials, and other government agencies.

Exemptions claimed for the system:

None.

[FR Doc. E7-7358 Filed 4-17-07; 8:45 am]

BILLING CODE 5001-06-P